DEPARTMENT OF TRANSPORTATION

Federal Highway Administration

Notice of Final Federal Agency Actions on South Mountain Freeway (Loop 202), Interstate 10 (Papago Freeway) to Interstate 10 (Maricopa Freeway) in Phoenix, AZ

AGENCY: Federal Highway Administration (FHWA), Department of Transportation (DOT).

ACTION: Notice of Availability of the Record of Decision (ROD) for the South Mountain Freeway project; and Notice of limitation on claims for judicial review of actions by FHWA and other Federal Agencies.

SUMMARY: In accordance with the National Environmental Policy Act (NEPA) and FHWA procedures, this notice announces the availability of the ROD regarding the South Mountain Freeway project in Phoenix, AZ. The Arizona Division Administrator signed the ROD on March 5, 2015.

In addition, this notice announces actions taken by FHWA and other Federal agencies that are final within the meaning of 23 U.S.C. 139(l)(1). The actions relate to the design and construction of the Selected Alternative for the South Mountain Freeway project. Those actions grant licenses, permits, and approvals for the project.

DATES: By this notice, FHWA is advising the public of final agency actions subject to 23 U.S.C. 139(l)(1). A claim seeking judicial review of the Federal agency actions on the highway project will be barred unless the claim is filed on or before August 10, 2015. If the Federal law that authorizes judicial review of a claim provides a time period of less than 150 days for filing such claim, then that shorter time period still applies.

FOR FURTHER INFORMATION CONTACT: Mr. Alan Hansen, Team Leader Planning, Environment, Air Quality, and Realty Team, Federal Highway Administration, 4000 N. Central Avenue, Suite 1500, Phoenix, Arizona 85012-3500; telephone: (602) 379-3646, fax: (602) 382-8998, email: Alan.Hansen@dot.gov. The FHWA Arizona Division Office's normal business hours are 7:30 a.m. to 4 p.m. (Mountain Standard Time).

You may also contact: Ms. Rebecca Yedlin, Environmental Coordinator, Federal Highway Administration, 4000 N. Central Avenue, Suite 1500, Phoenix, Arizona 85012-3500; telephone: (602) 379-3646, fax: (602) 382-8998, email: Rebecca.Yedlin@dot.gov.

SUPPLEMENTARY INFORMATION: Notice is hereby given that FHWA and other Federal agencies have taken final agency actions by issuing licenses, permits, and approvals for the following project in the State of Arizona: South Mountain Freeway (Loop 202), Interstate 10 (Papago Freeway) to Interstate 10 (Maricopa Freeway). The FHWA has decided to identify the Preferred Alternative analyzed in the South Mountain Freeway (Loop 202) Final Environmental Impact Statement and Section 4(f) Evaluation (FEIS) as the Selected Alternative for the South Mountain Freeway project in Phoenix, Arizona, and to proceed with its construction. The Selected Alternative discussed in the ROD for the project is the environmentally preferable alternative. The Selected Alternative will meet the project needs as well as or better than the other alternatives, and was determined to be the only prudent and feasible alternative in the eastern project area during the Section 4(f) evaluation. The Selected Alternative will have similar environmental effects on natural resources, cultural resources, hazardous materials, and noise; will displace fewer residences; will have the lowest impact on total tax revenues of local governments; will have lower construction costs; will cause less construction disruption overall to Interstate 10 (Papago Freeway); will mitigate impacts and provide measures to minimize harm; represents all possible planning to minimize harm to resources receiving protection under Section 4(f); is favored by the majority of local governments; and will allow regulatory permitting requirements to be met.

The actions by the Federal agencies, and the laws under which such actions were taken, are described in the Draft Environmental Impact Statement approved April 16, 2013, FEIS for the project, approved on September 18, 2014, in the FHWA ROD issued on March 5, 2015, and in other documents in the FHWA administrative record. Project decision documents are also available online at: azdot.gov/southmountainfreeway.

This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the US Department of Transportation Act of 1966 [49 U.S.C. 303]; Landscaping and Scenic Enhancement (Wildflowers) [23 U.S.C. 319].

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; Flood Disaster Protection Act [42 U.S.C. 4001-4128].

8. Water: Clean Water Act 33 U.S.C. 1251-1387.

9. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: March 9, 2015.
Karla S. Petty,
Arizona Division Administrator, Phoenix, Arizona.

[FR Doc. 2015-05769 Filed 3-12-15; 8:45 am]

BILLING CODE 4910-13-P